DEPARTMENT OF LABOR

Employment and Training Administration

[TA-W-56,943]

Sun Look Garment, Inc.; San Francisco, CA; Notice of Termination of Investigation

Pursuant to Section 221 of the Trade Act of 1974, as amended, an investigation was initiated on April 11, 2005 in response to a worker petition filed on behalf of workers at Sun Look Garment, Inc., San Francisco, California.

The petitioners have requested that the petition be withdrawn. Consequently, the investigation has been terminated.

Signed at Washington, DC this 19th day of May 2005.
Elliott S. Kushner,
Certifying Officer, Division of Trade Adjustment Assistance.

[FR Doc. E5-2802 Filed 6-1-05; 8:45 am]

BILLING CODE 4510-30-P